DEPARTMENT OF COMMERCE

National Oceanic and Atmospheric Administration

15 CFR Part 922

[0908041219-0073-02]

RIN 0648-AX79

Amendments to National Marine Sanctuary Regulations Regarding Low Overflights in Designated Zones

AGENCY: Office of National Marine Sanctuaries (ONMS), National Oceanic and Atmospheric Administration (NOAA), Department of Commerce (DOC).

ACTION: Extension of public comment period.

SUMMARY: On December 8, 2010, NOAA published a proposed rule in the Federal Register to amend the low overflight regulations of the Channel Islands, Monterey Bay, Gulf of the Farallones, and Olympic Coast national marine sanctuaries. Specifically, NOAA proposes to amend the regulations requiring that motorized aircraft maintain certain minimum altitudes above specified locations within the boundaries of the listed sanctuaries; and state that failure to comply with these altitude limits is presumed to disturb marine mammals or seabirds and is a violation of the sanctuary regulations.

DATES: The public comment period on the proposed rule published at 75 FR 76319, December 8, 2010, will be extended an additional 30 days from the original due date of January 7, 2011. Comments will be accepted through February 7, 2011.

ADDRESSES: You may submit comments, identified by RIN 0648-AX79 by any one of the following methods:

• Electronic Submissions: Submit all electronic public comments via the Federal eRulemaking Portal http://www.regulations.gov.

• Mail: Debra Malek, Office of National Marine Sanctuaries, 1305 East-West Highway, 11th floor, Silver Spring, MD 20910.

Instructions: No comments will be posted for public viewing until after the comment period has closed. All comments received are a part of the public record and will be posted to http://www.regulations.gov without change. All Personal Identifying Information (for example, name, address, etc.) voluntarily submitted by the commenter may be publicly accessible. Do not submit confidential business information or otherwise sensitive or protected information.

ONMS will accept anonymous comments (enter N/A in the required fields if you wish to remain anonymous). Attachments to electronic comments will be accepted in Microsoft Word, Excel, Wordperfect, or Adobe PDF file formats only.

FOR FURTHER INFORMATION CONTACT: Debra Malek, Office of National Marine Sanctuaries, 1305 East-West Highway, 11th floor, Silver Spring, MD 20910, (301) 713-3125 Ext. 262.

Daniel J. Basta,
Director, Office of National Marine Sanctuaries.

[FR Doc. 2010-33088 Filed 1-3-11; 8:45 am]

BILLING CODE 3510-NK-M